DEPARTMENT OF AGRICULTURE

Food and Nutrition Service

Agency Information Collection Activities: Proposed Collection; Comment Request—Supplemental Nutrition Assistance Program Repayment Demand and Program Disqualification

AGENCY: Food and Nutrition Service (FNS), USDA.

ACTION: Notice.

SUMMARY: In accordance with the Paperwork Reduction Act of 1995, this notice invites the general public and other public agencies to comment on the proposed information collection. This is a revision of currently approved information collection requirements associated with initiating collection actions against households who have received an overissuance in the Supplemental Nutrition Assistance Program (SNAP).

DATES: Written comments must be submitted on or before May 23, 2014.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Jane Duffield, Chief, State Administration Branch, Food and Nutrition Service, U.S. Department of Agriculture, 3101 Park Center Drive, Room 822, Alexandria, VA 22302. Comments may also be submitted via email to SNAPSAB@fns.usda.gov, or through the federal eRulemaking Portal. Go to http://www.regulations.gov, and follow the online instructions for submitting comments electronically.

All written comments will be open for public inspection at the FNS office located at 3101 Park Center Drive, Room 822, Alexandria, Virginia 22302, during regular business hours (8:30 a.m. to 5 p.m. Monday through Friday).

All responses to this notice will be summarized and included in the request for Office of Management and Budget approval. All comments will be a matter of public record.

FOR FURTHER INFORMATION CONTACT: Requests for additional information or copies of this information collection should be directed to Kelly Stewart at 703-305-2425.

SUPPLEMENTARY INFORMATION: Title: Supplemental Nutrition Assistance Program Repayment Demand and Program Disqualification

OMB Number: 0584-0492

Form Number: None

Expiration Date: September 30, 2014

Type of Request: Revision of a currently approved collection.

Abstract: Section 13(b) of the Food and Nutrition Act of 2008, as amended (7 U.S.C. 2022(b)), and Supplemental Nutrition Assistance Program (SNAP) regulations at 7 CFR 273.18(a)(2) require State agencies to initiate collection action against households that have been overissued benefits. To initiate collection action, State agencies must provide an affected household with written notification informing the household of the claim and demanding repayment. This process is automated in most State agencies. Note that for overissuance claims, this information collection only covers the activities associated with initiating collection. The burden associated with reporting collections and other claims management information on form FNS-209 is covered under currently approved OMB number 0584-0069, expiration date 9/30/2015. The burden associated with referring delinquent claims and receiving collections through the Treasury Offset Program is covered under currently approved OMB number 0584-0446, expiration date 4/30/2016.

SNAP regulations at 7 CFR 273.16(a)(1) require State agencies to investigate any case of suspected fraud and, where applicable, make an intentional Program violation (IPV) determination either administratively or judicially. Notifications and activities involved in the IPV process include:

• 7 CFR 273.16(e)(3)—The State agency providing written notification informing an individual suspected of committing an IPV of an impending administrative disqualification hearing or court action;

• 7 CFR 273.16(f)(2) and 273.16(h)(2)—An individual opting to accept the disqualification and waiving the right to an administrative disqualification hearing or court action by signing either a waiver to an administrative disqualification hearing or a disqualification consent agreement in cases of deferred adjudication and returning it to the State agency; and

• 7 CFR 273.16(e)(9)—Once a determination is made regarding an IPV, the State agency sending notification to the affected individual of the action taken on the administrative disqualification hearing or court decision.

SNAP regulations at 7 CFR 273.16(i)(4) require State agencies to use disqualified recipient data to ascertain the correct penalty for IPVs, based on prior disqualifications. State agencies determine this by accessing and reviewing records located in the Electronic Disqualified Recipient System (eDRS). eDRS is an automated system developed by FNS that contains records of disqualifications in every State. State agencies are also responsible for updating the system, as required at 273.16(i)(2)(i), which includes reporting disqualifications in eDRS as they occur and updating eDRS when records are no longer accurate, relevant, or complete.

Summary of Estimated Burden

The burden consists of two major components: the initiation of overissuance collection and actions associated with IPV determinations. The estimated total annual burden for this collection is 207,833 hours (141,506 SA reporting hours + 33,455 SA recordkeeping hours + 32,872 household reporting hours). The net aggregate change to this collection is an increase of 41,487 total burden hours from the currently approved burden of 166,346 hours. The burden hours associated with overissuance collection initiation have increased due to an increase in the amount of claims established in fiscal year (FY) 2012. The burden hours associated with IPV activity have decreased slightly as a result of a decreased number of SNAP households that States initiated IPV activity against in FY 2012.

Affected Public: State, Local and Tribal government (SA); Individual/Households (I/H),

Respondent Type: SNAP participants

SA Reporting Burden

Estimated Number of Respondents: 53

Estimate Total Number of Responses per Respondent: 20,660.730

Estimated Total Annual Responses: 1,095,018

Estimated Time per Response: 0.12923

Estimated Total Annual Reporting Burden: 141,506.314

Initiation of Overissuance Collection

For activities related to initiating collection on an overissuance, the estimated annual burden for State agency reporting is increased by 30,616 hours (122,339 − 91,723 = 30,616).

IPV Determinations

The State agencies' annual reporting burden for activities related to IPV hearing and disqualification notices decreased by −2,367 hours (15,381 − 13,014 = −2,367), and activities associated with accessing and updating eDRS decreased by −1,122 hours (7,275 − 6,153 = −1,122).

SA Recordkeeping Burden

Estimated Number of Recordkeepers: 53

Estimated Total Records per Recordkeeper: 18,938.606

Estimated Total Annual Records: 1,003,746

Estimated Average # of Hours per Response: 0.03333

Estimated Total Recordkeeping Hours: 33,454.854

Initiation of Overissuance Collection

For activities related to initiating collection on an overissuance, we are increasing the estimated annual burden for State agency recordkeeping by 7,652 hours (30,583 − 22,931 = 7,652).

IPV Determinations

States' annual recordkeeping burden for the IPV related activities decreased by -523 burden hours (3,395 − 2,872 = −523). There are no State agency recordkeeping requirements for eDRS.

I/H Reporting Burden

Estimated Number of Respondents: 1,030,013

Estimated Number of Responses per Respondent: 1.0

Total Number of Annual Responses: 1,030,013

Estimated Time per Response: 0.03191

Estimated Total Annual Reporting Burden: 32,872.537

Initiation of Overissuance Collection

For activities related to initiating collection on an overissuance, we are increasing the household reporting burden by 7,652 hours (30,583 − 22,931 = 7,652).

IPV Hearing Notices and Disqualifications

The household annual reporting burden for the activities related to IPV disqualifications has also decreased by −420 hours (2,710 − 2,290 = −420). There is no household reporting burden for eDRS.

Grand Total Burden Reporting and Recordkeeping Burden: 207,833.705

State Agency_Reporting Burden
Title | CFR Section of regulations | Estimated number respondents | Responses per respondent | Total annual responses (Col. DxE) | Estimated avg. number of hours per response | Estimated total hours (Col. FxG) | Previously approved | Due to program change | Due to an adjustment | Total difference
Demand Letter for Overissuance | 273.18(a)(2) | 53 | 17,312.57 | 917,566.00 | 0.13333 | 122,339.075 | 91,722.931 | 0.000 | 30,616.144 | 30,616.144
Notice for Hearing or Prosecution | 273.16(e)(3) | 53 | 825.34 | 43,743.00 | 0.13333 | 5,832.254 | 6,892.361 | 0.000 | −1,060.107 | −1,060.107
Action Taken on Hearing or Court Decision: For IPV Findings | 273.16(e)(9) | 53 | 800.70 | 42,437.00 | 0.16667 | 7,072.975 | 8,362.665 | 0.000 | −1,289.690 | −1,289.690
Action Taken on Hearing or Court Decision: For No IPV Findings | 273.16(e)(9) | 53 | 24.64 | 1,306.00 | 0.08333 | 108.829 | 126.328 | 0.000 | −17.499 | −17.499
Electronic Disqualified Recipient System Breakout: For eDRS Reporting | 273.16(i)(2)(i) | 53 | 800.70 | 42,437.00 | 0.08333 | 3,536.275 | 4,181.483 | 0.000 | −645.208 | −645.208
Electronic Disqualified Recipient System Breakout: For Editing and Resubmission | 273.16(i)(2)(i)) | 53 | 96.08 | 5,092.00 | 0.16667 | 848.684 | 1,003.520 | 0.000 | −154.836 | −154.836
Electronic Disqualified Recipient System Breakout: For Penalty Checks using Mainframe | 273.16(i)(4) | 53 | 800.70 | 42,437.00 | 0.04167 | 1,768.222 | 2,090.717 | 0.000 | −322.495 | −322.495
Total State Agency Reporting Burden |  | 53 | 20,660.730 | 1,095,018.000 | 0.12923 | 141,506.314 | 114,380.005 | 0.000 | 27,126.309 | 27,126.309
Recordkeeping
Title | Estimated number recordkeepers | Records per recordkeeper | Annual records | Estimated avg. number of hours per records | Estimated total annual records | Previously approved | Due to program change | Due to an adjustment | Total difference
Recordkeeping Breakout: For initiating Collection Action | 272.1(f) | 53 | 17,312.57 | 917,566.00 | 0.03333 | 30,582.475 | 22,930.504 | 0.000 | 7,651.971 | 7,651.971
Recordkeeping Breakout: For IPVs | 272.1(f) | 53 | 1,626.04 | 86,180.00 | 0.03333 | 2,872.379 | 3,395.699 | 0.000 | −523.320 | −523.320
Total State Agency Recordkeeping Burden |  | 53 | 18,938.606 | 1,003,746.000 | 0.03333 | 33,454.854 | 26,326.203 | 0.000 | 7,128.651 | 7,128.651

| CFR section of regulations | Estimated number respondents | Responses per respondent | Total annual responses | Estimated avg. number of hours per response | Estimated total hours | Previously approved | Due to program change | Due to an adjustment | Total difference
TOTAL STATE AGENCY BURDEN |  | 53 | 39,599.321 | 2,098,764.000 | 0.08336 | 174,961.168 | 140,706.208 | 0.000 | 34,254.960 | 34,254.960
Title |  | Estimated number respondents | Responses per respondent | Total annual responses (Col. DxE) | Estimated avg. number of hours per response | Estimated total hours (Col. FxG) | Previously approved | Due to program change | Due to an adjustment | Total difference
HOUSEHOLD
Reporting Burden
Demand Letter for Overissuance | 273.18(a)(2) | 917,566.00 | 1.00 | 917,566.00 | 0.03333 | 30,582.475 | 22,930.504 | 0.000 | 7,651.971 | 7,651.971
Notice for Hearing or Prosecution | 273.16(e)(3) | 43,743.00 | 1.00 | 43,743.00 | 0.016667 | 729.065 | 861.532 | 0.000 | −132.467 | −132.467
Administrative Disqualification Hearing Waiver | 273.16(f)(2) | 18,112.00 | 1.00 | 18,112.00 | 0.03333 | 603.673 | 711.062 | 0.000 | −107.389 | −107.389
Disqualification Consent Agreement | 273.16(f)(2) | 6,849.00 | 1.00 | 6,849.00 | 0.03333 | 228.277 | 275.706 | 0.000 | −47.429 | −47.429
Action Taken on Hearing or Court Decision: For IPV Findings | 273.16(e)(9) | 42,437.00 | 1.00 | 42,437.00 | 0.016667 | 707.281 | 836.297 | 0.000 | −129.016 | −129.016
Action Taken on Hearing or Court Decision: For No IPV Findings | 273.16(e)(9) | 1,306.00 | 1.00 | 1,306.00 | 0.016667 | 21.767 | 25.266 | 0.000 | −3.499 | −3.499
Total Household Reporting Burden |  | 1,030,013 | 1.00000 | 1,030,013.000 | 0.03191 | 32,872.537 | 25,640.367 | 0.000 | 7,232.170 | 7,232.170
SUMMARY OF BURDEN
State Agency Level |  | 53 |  | 2,098,764.000 |  | 174,961.168 | 140,706.208 | 0.000 | 34,254.960 | 34,254.960
Household |  | 1,030,013 |  | 1,030,013.000 |  | 32,872.537 | 25,640.367 | 0.000 | 7,232.170 | 7,232.170
TOTAL BURDEN THIS COLLECTION |  | 1,030,066 | 3.03745 | 3,128,777.000 | 0.06643 | 207,833.705 | 166,346.575 | 0.000 | 41,487.130 | 41,487.130

Dated: March 14, 2014.
Audrey Rowe,
Administrator, Food and Nutrition Service.

[FR Doc. 2014-06282 Filed 3-21-14; 8:45 am]

BILLING CODE 3410-30-P